DEPARTMENT OF ENERGY

Federal Energy Regulatory Commission

[Project No. P-2725-076]

Oglethorpe Power Corporation: Notice of Application Tendered for Filing With the Commission and Soliciting Additional Study Requests and Establishing Procedural Schedule for Licensing and a Deadline for Submission of Final Amendments

Take notice that the following hydroelectric application has been filed with the Commission and is available for public inspection.

a. Type of Application: New Major License.

b. Project No.: 2725-076.

c. Date filed: December 6, 2024.

d. Applicant: Oglethorpe Power Corporation (OPC).

e. Name of Project: Rocky Mountain Pumped Storage Hydroelectric Project.

f. Location: On Heath Creek, in Floyd County, Georgia.

g. Filed Pursuant to: Federal Power Act 16 U.S.C. 791(a)-825(r).

h. Applicant Contact: Jeff Swartz, Oglethorpe Power Corporation, Senior Vice President of Plant Operations, 2100 East Exchange Place, Tucker, Georgia 30084, email at Jeff Swartz@opc.com.

i. FERC Contact: David Gandy at 202-502-8560, or david.gandy@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 4, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Rocky Mountain Pumped Storage Hydroelectric Project (P-2725-076).

m. The application is not ready for environmental analysis at this time.

n. The Rocky Mountain Pumped Storage Project consists of the following existing facilities: (1) a 120-foot-high, 12,895-foot-long earth and rockfill upper dam; (2) a 221 acre upper reservoir with 10,650 acre-feet of storage and a normal operating pool elevation of 1,392 feet NAVD88; (3) a 35-foot-diameter, 567-foot-high concrete-lined power shaft; (4) a 35-foot-diameter, 1,935-foot-long concrete lined tunnel with two concrete lined bifurcations; (5) three 19-foot-diameter, 470-foot-long steel lined penstocks; (6) a 348-foot-long, 156-foot-wide, 175-foot-high powerhouse containing three reversible Francis pump-turbines, with a combined installed capacity of 904 megawatts; (7) three 230 kilovolt, 2.7-mile-long transmission lines; (8) a substation; and (9) appurtenant facilities.

The project has reserve storage water contained in two auxiliary pools adjacent to the lower reservoir. Pool I's surface area is 400 acres and is formed by four dams. The pool I dams consist of: (a) a 25-foot-high earthen dam of unspecified length; (b) a 20-foot-high, 775-foot-long earth and rockfill dam; (c) a 50-foot-high, 700-foot-long earth and rockfill dam; (d) a 50-foot-high, 405-foot-long earth and rockfill dam. Pool II surface area is 200 acres and is formed by a 30-foot-high, 335-foot-long earth and rockfill dam.

The Rocky Mountain Pumped Storage Project is operated in a pumped storage mode and OPC proposes to continue operating the project in that mode.

o. A copy of the application can be viewed on the Commission's website at http://www.ferc.gov using the “eLibrary” link. Enter the docket number excluding the last three digits in the docket number field to access the document (P-2725). For assistance, contact FERC Online Support at FERCOnlineSupport@ferc.gov or call tollfree, (866) 208-3676 or (202) 502-8659 (TTY).

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

p. Procedural schedule and final amendments: The application will be processed according to the following preliminary schedule. Revisions to the schedule will be made as appropriate.

Table 3—Maintenance Demonstration for North Carolina Portion of the Charlotte Maintenance Area
Milestone | Target date
Issue Deficiency Letter (if necessary) | February 2025.
Request for Additional Information | February 2025.
Issue Notice of Acceptance | May 2025.
Issue Scoping Document 1 for comments | June 2025.
Issue Scoping Document 2 (if necessary) | August 2025.

q. Final amendments to the application must be filed with the Commission no later than 30 days from the issuance date of the notice of ready for environmental analysis.

Dated: December 18, 2024.
Debbie-Anne A. Reese,
Secretary.

[FR Doc. 2024-30864 Filed 12-27-24; 8:45 am]

BILLING CODE 6717-01-P